DEPARTMENT OF COMMERCE

National Oceanic and Atmospheric Administration

50 CFR Part 660

[I.D. 032702B]

Fisheries Off West Coast States and in the Western Pacific; Pacific Coast Groundfish Fishery; Application for an Exempted Fishing Permit

AGENCY: National Marine Fisheries Service (NMFS), National Oceanic and Atmospheric Administration (NOAA), Commerce.

ACTION: Notice of receipt of an application for an exempted fishing permit (EFP); request for comments.

SUMMARY: NMFS announces receipt of an application for an EFP from the Washington State Department of Fish and Wildlife. If awarded, the EFP would allow vessels with valid Washington state delivery permits that have historically fished for yellowtail rockfish to land certain federally managed groundfish species in excess of cumulative trip limits and sell yellowtail rockfish for profit, providing the vessel carries a state sponsored observer while conducting EFP fishing. State observers would collect total catch and effort data, and retain specimens that are otherwise not available shoreside. This EFP proposal is intended to promote the objectives of the Pacific Coast Groundfish Fishery Management Plan (FMP) by providing much-needed data on total catch and incidental catch rates, along with a pilot program for the retention of rockfish overages.

DATES: Comments must be received by April 30, 2002.

ADDRESSES: Copies of the EFP application are available from Becky Renko, Northwest Region, NMFS, 7600 Sand Point Way N.E., Bldg. 1, Seattle, WA 98115-0070.

FOR FURTHER INFORMATION CONTACT: Becky Renko (206) 526-6110.

SUPPLEMENTARY INFORMATION: This action is authorized by the FMP and implementing regulations at 50 CFR 600.745 and 50 CFR 660.350.

The purpose of this exempted fishing activity would be to measure bycatch rates for widow and other rockfish associated with fishing strat egies currently used in the mid-water yellowtail rockfish fishery off Washington.

Fishing for yellowtail rockfish, which is an abundant and commercially important species off Washington, is constrained by efforts to rebuild widow and canary rockfish, both overfished species. Fishers who have historically targeted yellowtail rockfish believe that the mid-water yellowtail fishery can be prosecuted with a much lower bycatch rate of widow and canary rockfish than is currently assumed.

If issued, this EFP would allow certain vessels with valid Washington state delivery permits to retain and sell yellowtail rockfish in excess of cumulative trip limits. Other rockfish species, caught in excess of current trip limits and retained under the EFP, would be forfeited to the State. This EFP would also provide for a state run observer program where observers collect and retain specimens of otherwise prohibited fish caught by the vessel. Observers would collect much-needed data, to estimate incidental catch rates and total catch of various species. In addition to providing bycatch information, this EFP would be a pilot program for the retention of rockfish overages. Without an EFP, groundfish regulations at 50 CFR 660.306(f) would continue to restrict vessels from landing groundfish species or species groups in excess of trip limits.

Data collected during this project is expected to have a broad significance to the management of the groundfish fishery by providing much needed information on: (1) rockfish catch in the mid-water yellowtail rockfish fishery; (2) catch rates of incidentally caught rockfish species, including widow rockfish and canary rockfish by fishing location; and (3) age structure data that is otherwise not available from landed catch. To the extent possible, data provided by the state observers will be compatible with that collected by the NMFS coastwide observer program. However, the scope of sampling will be narrower to reflect the specific purpose of this EFP. The information gathered through this EFP may lead to future rulemaking. If the EFP is issued, approximately nine vessels are expected to fish under the EFP from May 1 through June 30, 2002.

NMFS initially received this EFP request from the State of Washington at the Pacific Fishery Management Council meeting on October 31, 2001. The completed application was received on February 20,2002. In accordance with regulations, NMFS has determined that the proposal warrants further consideration and has consulted with the Council. The Council urged NMFS to issue the EFP during its October/November 2001, meeting in Millbrae, CA. The applicants appeared in support of the application at that meeting. A copy of the application is available for review from NMFS (see ADDRESSES).

Authority: 16 U.S.C. 1801et seq.

Dated: April 3, 2002.
Bruce C. Morehead,
Acting Director, Office of Sustainable Fisheries, National Marine Fisheries Service.

[FR Doc. 02-8691 Filed 4-9-02; 8:45 am]

BILLING CODE 3510-22-S